DEPARTMENT OF TRANSPORTATION

Federal Aviation Administration

14 CFR Part 39

[Docket No. FAA-2004-19537; Directorate Identifier 2004-NM-145-AD; Amendment 39-13993; AD 2005-05-05]

RIN 2120-AA64

Airworthiness Directives; Airbus Model A300 B4-600, B4-600R, and F4-600R Series Airplanes, and Model C4-605R Variant F Airplanes (Collectively Called A300-600); and Model A310 Series Airplanes; Equipped With Certain Honeywell Inertial Reference Units (IRU)

AGENCY: Federal Aviation Administration (FAA), Department of Transportation (DOT).

ACTION: Final rule.

SUMMARY: The FAA is adopting a new airworthiness directive (AD) for all Airbus Model A300 B4-600, B4-600R, and F4-600R series airplanes, and Model C4-605R Variant F airplanes (collectively called A300-600); and Model A310 series airplanes; equipped with certain Honeywell inertial reference units (IRUs). This AD requires revising the Limitations section of the airplane flight manual to prohibit the use of CAT 2 and CAT 3 automatic landing and rollout procedures at certain airports. This AD is prompted by a report that some magnetic deviation tables in the IRU database are obsolete and contain significant differences with the real magnetic deviations. We are issuing this AD to prevent an airplane from deviating from the runway centerline, and possibly departing the runway.

DATES: This AD becomes effective April 15, 2005.

The incorporation by reference of certain publications listed in the AD is approved by the Director of the Federal Register as of April 15, 2005.

ADDRESSES: For service information identified in this AD, contact Airbus, 1 Rond Point Maurice Bellonte, 31707 Blagnac Cedex, France.

Docket: The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street, SW., room PL-401, Washington, DC. This docket number is FAA-2004-19537; the directorate identifier for this docket is 2004-NM-145-AD.

FOR FURTHER INFORMATION CONTACT: Tim Backman, Aerospace Engineer, International Branch, ANM-116, FAA, Transport Airplane Directorate, 1601 Lind Avenue, SW., Renton, Washington 98055-4056; telephone (425) 227-2797; fax (425) 227-1149.

SUPPLEMENTARY INFORMATION: The FAA proposed to amend 14 CFR part 39 with an AD for all Airbus Model A300 B4-600, B4-600R, and F4-600R series airplanes, and Model C4-605R Variant F airplanes (collectively called A300-600); and Model A310 series airplanes; equipped with certain Honeywell inertial reference units (IRUs). That action, published in the Federal Register on November 5, 2004 (69 FR 64520), proposed to require revising the Limitations section of the airplane flight manual (AFM) to prohibit the use of CAT 2 and CAT 3 automatic landing and rollout procedures at certain airports.

Comments

We provided the public the opportunity to participate in the development of this AD. We have considered the comment that has been submitted on the proposed AD. The commenter supports the proposed AD.

Explanation of Changes Made to This Final Rule

We have revised Table 2 of this AD to more clearly identify the applicable airplane flight manuals (AFM) to be revised.

In Table 2 of the proposed AD we referenced an incorrect date for the temporary revisions. We have revised Table 2 of this final rule to correct that information.

Conclusion

We have carefully reviewed the available data, including the comment that has been submitted, and determined that air safety and the public interest require adopting the AD as proposed, with the changes described previously. We have determined that these changes will neither increase the economic burden on any operator nor increase the scope of the AD.

Costs of Compliance

This AD will affect about 136 airplanes of U.S. registry. The AFM revision will take about 1 work hour per airplane, at an average labor rate of $65 per work hour. Based on these figures, the estimated cost of the AD for U.S. operators is $8,840, or $65 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2005-05-05 Airbus: Amendment 39-13993. Docket No. FAA-2004-19537; Directorate Identifier 2004-NM-145-AD.

Effective Date

(a) This AD becomes effective April 15, 2005.

Affected ADs

(b) None.

Applicability

(c) This AD applies to Airbus airplanes, certificated in any category; as identified in Table 1 of this AD:

Table 1.—Applicability
Model— | Equipped with any honeywell inertial reference unit (IRU) having part number— | Excluding airplanes modified in accordance with—
A300 B4-600, B4-600R, and F4-600R series airplanes; and C4-605R Variant F airplanes (collectively called A300-600) | HG1050BD01, HG1050BD02, or HG1050BD05 | Airbus modification 12304 in production.
A310 series airplanes | HG1050BD01, HG1050BD02, or HG1050BD05 | Airbus modification 12304 in production.

Unsafe Condition

(d) This AD was prompted by a report that some magnetic deviation tables in the IRU database are obsolete and contain significant differences with the real magnetic deviations. We are issuing this AD to prevent an airplane from deviating from the runway centerline, and possibly departing the runway.

Compliance

(e) You are responsible for having the actions required by this AD performed within the compliance times specified, unless the actions have already been done.

Airplane Flight Manual (AFM) Revision

(f) Within 10 days after the effective date of this AD, revise the Limitations section of the Airbus A300-600 AFM; or the Airbus A310 AFM; as applicable; by inserting a copy of the applicable Airbus temporary revision (TR) listed in Table 2 of this AD into the applicable AFM.

Note 1: When Airbus includes these TRs in the general revisions of the AFM, the general revisions may be inserted in the AFM, provided the relevant information in the general revisions is identical to that in Airbus TRs 6.01.03/08 and 6.01.03/36.

Table 2.—AFM TRs
For model | Airbus temporary revision | AFM
A300-600 airplanes | 6.01.03/08, dated February 9, 2004 | A300-600 Flight Manual.
A310 series airplanes | 6.01.03/36, dated February 9, 2004 | A310 Flight Manual.

Terminating Action

(g) After replacing the Honeywell IRUs with new or modified Honeywell IRUs in accordance with the requirements of AD 2003-20-01, amendment 39-13319 (68 FR 55814), the AFM revision required by paragraph (f) of this AD may be removed.

Alternative Methods of Compliance (AMOCs)

(h) The Manager, International Branch, ANM-116, Transport Airplane Directorate, FAA, has the authority to approve AMOCs for this AD, if requested in accordance with the procedures found in 14 CFR 39.19.

Related Information

(i) French airworthiness directive F-2004-093(B), issued June 23, 2004, also addresses the subject of this AD.

Material Incorporated by Reference

(j) You must use the applicable temporary revision to the applicable Airbus airplane flight manual specified in Table 3 of this AD to perform the actions that are required by this AD, unless the AD specifies otherwise. The Director of the Federal Register approves the incorporation by reference of those documents in accordance with 5 U.S.C. 552(a) and 1 CFR part 51. For copies of the service information, contact Airbus, 1 Rond Point Maurice Bellonte, 31707 Blagnac Cedex, France. For information on the availability of this material at the National Archives and Records Administration (NARA), call (202) 741-6030, or go to http://www.archives.gov/federal_register/code_of_federal_regulations/ibr_locations.html.

You may view the AD docket at the Docket Management Facility, U.S. Department of Transportation, 400 Seventh Street SW., room PL-401, Nassif Building, Washington, DC.

Table 3.—Material Incorporated by Reference
Airbus temporary revision | AFM
6.01.03/08, dated February 9, 2004 | A300-600 Flight Manual.
6.01.03/36, dated February 9, 2004 | A310 Flight Manual.

Issued in Renton, Washington, on February 18, 2005.
Ali Bahrami,
Manager, Transport Airplane Directorate, Aircraft Certification Service.

[FR Doc. 05-4070 Filed 3-10-05; 8:45 am]

BILLING CODE 4910-13-P